DEPARTMENT OF EDUCATION

National Institute on Disability and Rehabilitation Research (NIDRR)—Disability and Rehabilitation Research Projects and Centers Program—Disability Rehabilitation Research Project (DRRP)—Transition to Employment

Catalog of Federal Domestic Assistance (CFDA) Number: 84.133A-1.

AGENCY: Office of Special Education and Rehabilitative Services, Department of Education.

ACTION: Notice of proposed priority for a DRRP.

SUMMARY: The Assistant Secretary for Special Education and Rehabilitative Services proposes a priority for the Disability and Rehabilitation Research Projects and Centers Program administered by NIDRR. Specifically, this notice proposes a priority for a DRRP. The Assistant Secretary may use this priority for a competition in fiscal year (FY) 2010 and later years. We take this action to focus research attention on areas of national need. We intend this priority to improve rehabilitation services and outcomes for individuals with disabilities.

DATES: We must receive your comments on or before January 28, 2010.

ADDRESSES: Address all comments about this proposed priority to Donna Nangle, U.S. Department of Education, 400 Maryland Avenue, SW., room 6029, Potomac Center Plaza (PCP), Washington, DC 20202-2700.

If you prefer to send your comments by e-mail, use the following address: donna.nangle@ed.gov. You must include the term “Proposed Priority for a DRRP on Transition to Employment” in the subject line of your electronic message.

FOR FURTHER INFORMATION CONTACT: Donna Nangle. Telephone: (202) 245-7462 or by e-mail: donna.nangle@ed.gov.

If you use a telecommunications device for the deaf (TDD), call the Federal Relay Service (FRS), toll free, at 1-800-877-8339.

SUPPLEMENTARY INFORMATION: This notice of proposed priority is in concert with NIDRR's Final Long-Range Plan for FY 2005-2009 (Plan). The Plan, which was published in the Federal Register on February 15, 2006 (71 FR 8165), can be accessed on the Internet at the following site: www.ed.gov/about/offices/list/osers/nidrr/policy.html.

Through the implementation of the Plan, NIDRR seeks to: (1) Improve the quality and utility of disability and rehabilitation research; (2) foster an exchange of expertise, information, and training to facilitate the advancement of knowledge and understanding of the unique needs of traditionally underserved populations; (3) determine best strategies and programs to improve rehabilitation outcomes for underserved populations; (4) identify research gaps; (5) identify mechanisms of integrating research and practice; and (6) disseminate findings.

This notice proposes a priority that NIDRR intends to use for DRRP competitions in FY 2010 and possibly later years. However, nothing precludes NIDRR from publishing additional priorities, if needed. Furthermore, NIDRR is under no obligation to make an award for this priority. The decision to make an award will be based on the quality of applications received and available funding.

Invitation to Comment:

We invite you to submit comments regarding this proposed priority. To ensure that your comments have maximum effect in developing the notice of final priority, we urge you to identify clearly the specific topic that each comment addresses.

We invite you to assist us in complying with the specific requirements of Executive Order 12866 and its overall requirement of reducing regulatory burden that might result from this proposed priority. Please let us know of any further ways we could reduce potential costs or increase potential benefits while preserving the effective and efficient administration of the program.

During and after the comment period, you may inspect all public comments about this proposed priority in room 6029, 550 12th Street, SW., Potomac Center Plaza, Washington, DC, between the hours of 8:30 a.m. and 4:00 p.m., Washington, DC, time, Monday through Friday of each week except Federal holidays.

Assistance to Individuals with Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

DRRP Program

Purpose of Program: The purpose of the DRRP program is to improve the effectiveness of services authorized under the Rehabilitation Act of 1973, as amended, by developing methods, procedures, and rehabilitation technologies that advance a wide range of independent living and employment outcomes for individuals with disabilities, especially individuals with the most severe disabilities. DRRPs carry out one or more of the following types of activities, as specified and defined in 34 CFR 350.13 through 350.19: research, training, demonstration, development, dissemination, utilization, and technical assistance. An applicant for assistance under this program must demonstrate in its application how it will address, in whole or in part, the needs of individuals with disabilities from minority backgrounds (34 CFR 350.40(a)). The approaches an applicant may take to meet this requirement are found in 34 CFR 350.40(b). In addition, NIDRR intends to require all DRRP applicants to meet the requirements of the General Disability and Rehabilitation Research Projects (DRRP) Requirements priority that it published in a notice of final priorities in the Federal Register on April 28, 2006 (71 FR 25472).

Additional information on the DRRP program can be found at: http://www.ed.gov/rschstat/research/pubs/res-program.html#DRRP.

Program Authority: 29 U.S.C. 762(g) and 764(a).

Applicable Program Regulations: 34 CFR part 350.

Proposed Priority: This notice contains one proposed priority.

Transition to Employment.

Background:

Only 43 percent of youth with disabilities are employed during the period immediately after high school compared to 63 percent of their peers without disabilities (Wagner et al., 2005). In addition, certain populations of youth with disabilities are at an even greater risk of experiencing poor employment outcomes, such as populations who are African-American, younger, or female (Coutinho et al., 2006; Cameto et al., 2003; Fabian, 2007; Wagner et al., 2005, 2006; Wells et al., 2003). The type of disability is also related to the employment outcomes for youth with disabilities (Cameto et al., 2003; Wagner et al., 2005, 2006; Wells et al., 2003). Relative to the general population of youth with disabilities, youth with disabilities from disadvantaged backgrounds (e.g., poverty, foster care, involvement in the juvenile justice system) are at even greater risk of poor employment outcomes (Cameto et al., 2003; National Council on Disability, 2008; Wagner et al., 2005, 2006; Wells et al., 2003).

Studies of promising practices for transition-age youth with disabilities suggest that facilitators of successful employment outcomes include, but are not limited to: increasing collaboration and coordination among providers serving these youth (Flannery et al., 2007; Oertle & Trach, 2007; Wittenburg et al., 2002), encouraging youth participation in the workforce during the high school years (Fabian, 2007; Wittenburg & Maag, 2002), encouraging participation in postsecondary education (Flannery et al., 2007; Weathers et al., 2007), providing work-specific and community participation support (Garcia-Iriarte et al., 2007), and involving employers in transition programs (Fabian, 2007; Garcia-Iriarte et al., 2007; Rutkowski et al., 2006). Some of these practices, such as youth participation in the workplace during high school and employer participation in transition programs, have been developed primarily for particular high-risk groups such as minority youth from urban areas (e.g., Fabian, 2007; Garcia-Iriarte et al., 2007).

Many of the promising practices suggested by this research have been incorporated into projects supported by the U.S. Department of Education. Some projects involving promising practices, such as inter-agency collaboration, exposure to work experience, and community-based training, have been implemented by State vocational rehabilitation agencies (U.S. Department of Education, 2009). Promising practices like these and others (e.g., student-focused planning, family involvement, youth development activities) are also the focus of several current demonstration projects funded by the Rehabilitation Services Administration of the U.S. Department of Education (2007).

Despite these efforts, there is still little scientifically based research demonstrating the efficacy of many of these practices and interventions in improving employment outcomes for transition-age youth with disabilities, particularly for those transition-age youth with disabilities who are at increased risk for poor employment outcomes. The knowledge gained from the identification and evaluation of effective interventions will provide policymakers and practitioners with the evidence they need to justify a broad application of promising practices in vocational rehabilitation and educational settings.

References:

Cameto, R., Marder, C., Wagner, M., & Cardoso, D. (2003). Youth employment. NLTS2 Data Brief: A report from the National Longitudinal Transition Study-2, 2, pp. 1-5.

Coutinho, M.J., Owald, D.P., & Best, A.M. (2006). Differences in outcomes for female and male students in special education. Career Development for Exceptional Individuals, 29, 48-59.

Fabian, E.S. (2007). Urban youth with disabilities: Factors affecting transition employment. Rehabilitation Counseling Bulletin, 50, pp. 130-138.

Flannery, K.B., Slovic, R., Benz, M.R., & Levine, E. (2007). Priorities and changing practices: Vocational rehabilitation and community colleges improving workforce development programs for people with disabilities. Journal of Vocational Rehabilitation, 27, 141-151.

Garcia-Iriarte, E., Balcazar, F., & Taylor-Ritzler, T. (2007). Analysis of case managers' support of youth with disabilities transitioning from school to work. Journal of Vocational Rehabilitation, 26, 129-140.

National Council on Disability. (2008). The Rehabilitation Act: Outcomes for transition-age youth. See www.ncd.gov/newsroom/publications/2008/publications.htm.

Oertle, K.M., & Trach, J.S. (2007). Interagency collaboration: The importance of rehabilitation professionals' involvement in transition. Journal of Rehabilitation, 73, 36-44.

Rutkowski, S., Daston, M., Van Kuiken, D., & Richle, E. (2006). Project SEARCH: A demand-side model of high school transition. Journal of Vocational Rehabilitation, 25, 85-96.

U.S. Department of Education (2007). Notice inviting applications. Federal Register, 72 FR 36682-36685.

U.S. Department of Education (2009). RSA: Promising practices for basic VR agencies helping transition age youth. Washington, DC: Department of Education. See http://www.ed.gov/rschstat/eval/rehab/promising-practices/transition-age/index.html.

Wagner, M., Newman, L., Cameto, R., Garza, N., & Levine, P. (2005). After high school: A first look at the postschool experiences of youth with disabilities. A report from the National Longitudinal Transition Study-2 (NLTS2). Menlo Park, CA: SRI International. Available at http://www.nlts2.org/reports/2005_04/nlts2_report_2005_04_complete.pdf.

Wagner, M., Newman, L., Cameto, R., Levine, P., & Garza, N. (2006). An overview of findings from Wave 2 of the National Longitudinal Transition Study-2 (NLTS2). Menlo Park, CA: SRI International. See http://www.nlts2.org/reports/2006_08/nlts2_report_2006_08_complete.pdf.

Weathers, R.R., Walter, G., Schley, S., Hennessey, J., Hemmeter, J., & Burkhauser, R.V. (2007). How postsecondary education improves adult outcomes for Supplemental Security Income children with severe hearing impairments. Social Security Bulletin, 67, 101-131.

Wells, T., Sandefur, G.D., & Hogan, D.P. (2003). What happens after the high school years among younger persons with disabilities? Social Forces, 82, 803-832.

Wittenburg, D.C., Golden, T., & Fishman, M. (2002). Transition options for youth with disabilities: An overview of the programs and policies that affect transition from school. Journal of Vocational Rehabilitation, 17, 195-206.

Wittenburg, D.C., & Maag, E. (2002). School to where? A literature review on economic outcomes of youth with disabilities. Journal of Vocational Rehabilitation, 17, 265-280.

Proposed Priority:

The Assistant Secretary for Special Education and Rehabilitative Services proposes a priority for a Disability and Rehabilitation Research Project (DRRP) on Transition to Employment. The purpose of this priority is to identify and evaluate promising practices that will facilitate job entry and career development for transition-age youth with disabilities who are at risk for poor employment outcomes.

A number of factors can affect employment outcomes for this population, including demographic characteristics (e.g., race/ethnicity, age), disability characteristics (e.g., disability type) and disadvantaged background (e.g., poverty, foster care, involvement in the juvenile justice system). The DRRP must build upon the current research literature and ongoing implementation and demonstration of promising practices in the field of transition to employment.

Under this priority, the DRRP must be designed to contribute to the following outcomes:

(a) New knowledge of promising employment-focused transition practices for transition-age youth with disabilities who are at risk for poor employment outcomes. The DRRP must contribute to this outcome by conducting research to identify such practices. These practices may include, but are not limited to: work experience during the secondary school years; involvement of employers in the design and implementation of the transition program; supported employment; and increased coordination among schools, State vocational rehabilitation programs, or other programs serving transition-age youth with disabilities.

(b) New knowledge regarding the effectiveness of employment-focused transition practices for transition-age youth with disabilities at risk for poor employment outcomes. The DRRP must contribute to this outcome by implementing and evaluating at least one promising practice identified under paragraph (a) for a particular at-risk group of transition-age youth with disabilities. In evaluating the promising practice or practices, the DRRP must use scientifically based research, as defined in section 9101(37) of the Elementary and Secondary Education Act of 1965, as amended (20 U.S.C. 7801(37)). Applicants must identify the specific at-risk group or groups of transition-age youth with disabilities they propose to study, provide evidence that the selected population or populations are, in fact, at risk for poor employment outcomes, and explain how the proposed practices are expected to address the needs of the population or populations.

(c) Enhancement of the knowledge base of policy makers, State VR personnel, and personnel of other programs serving transition-age youth with disabilities. The DRRP must contribute to this outcome by conducting targeted dissemination of results from research conducted under paragraphs (a), and (b).

• In addition, through coordination with the NIDRR Project Officer, the DRRP should contribute to this outcome by:

(1) Collaborating with relevant technical assistance grantees from the Rehabilitation Services Administration, such as the Technical Assistance and Continuing Education (TACE) Centers; and

(2) Collaborating with relevant technical assistance Grantees from the Office of Special Education Programs, such as the National Secondary Transition Technical Assistance Center.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Priority: We will announce the final priority in a notice in the Federal Register. We will determine the final priority after considering responses to this notice and other information available to the Department. This notice does not preclude us from proposing additional priorities, requirements, definitions, or selection criteria, subject to meeting applicable rulemaking requirements.

Note: This notice does not solicit applications. In any year in which we choose to use this priority, we invite applications through a notice in the Federal Register.

Executive Order 12866: This notice has been reviewed in accordance with Executive Order 12866. Under the terms of the order, we have assessed the potential costs and benefits of this regulatory action.

The potential costs associated with this proposed regulatory action are those resulting from statutory requirements and those we have determined as necessary for administering this program effectively and efficiently.

In assessing the potential costs and benefits—both quantitative and qualitative—of this proposed regulatory action, we have determined that the benefits of the proposed priority justify the costs.

Discussion of costs and benefits:

The benefits of the Disability and Rehabilitation Research Projects and Centers Programs have been well established over the years in that similar projects have been completed successfully. This proposed priority will generate new knowledge about transition to employment for youth with disabilities, through research, development, dissemination, utilization, or technical assistance projects.

Another benefit of this proposed priority is that the establishment of a new DRRP will improve the lives of individuals with disabilities. The new DRRP will generate, disseminate, and promote the use of new information about transition to employment for youth with disabilities. This information will improve the options for youth with disabilities as they transition into adulthood and employment activities.

Intergovernmental Review

This program is not subject to Executive Order 12372 and the regulations in 34 CFR part 79.

Accessible Format: Individuals with disabilities can obtain this document in an accessible format (e.g., braille, large print, audiotape, or computer diskette) by contacting the Grants and Contracts Services Team, U.S. Department of Education, 400 Maryland Avenue, SW., room 5075, PCP, Washington, DC 20202-2550. Telephone: (202) 245-7363. If you use a TDD, call the FRS, toll- free, at 1-800-877-8339.

Electronic Access to This Document: You can view this document, as well as all other documents of this Department published in the Federal Register, in text or Adobe Portable Document Format (PDF) on the Internet at the following site: www.ed.gov/news/fedregister.

To use PDF you must have Adobe Acrobat Reader, which is available free at this site.

Note: The official version of this document is the document published in the Federal Register. Free Internet access to the official edition of the Federal Register and the Code of Federal Regulations is available on GPO Access at: http://www.gpoaccess.gov/nara/index.html.

Dated: December 21, 2009.
Alexa Posny,
Assistant Secretary for Special Education and Rehabilitative Services.

[FR Doc. E9-30670 Filed 12-28-09; 8:45 am]

BILLING CODE 4000-01-P